FEDERAL MARITIME COMMISSION

Meetings; Sunshine Act

Agency Holding the Meeting: Federal Maritime Commission.

Time and Date: May 20, 2009—1:30 p.m.

Place: 800 North Capitol Street, NW., First Floor Hearing Room, Washington, DC.

Status: A portion of the meeting will be in Open Session and the remainder of the meeting will be in Closed Session.

Matters To Be Considered:

Open Session

1. Docket No. 02-15 Passenger Vessel Financial Responsibility—Request of Commissioner Brennan.

2. FMC Agreement No. 012067: U.S. Supplemental Agreement to HLC Agreement.

3. Public Access to Number and Type of Filings in FMC's SERVCON System.

4. FY 2009 Budget Status Update.

Closed Session

1. Docket No. 08-07: Petition of Olympus Growth Fund III, L.P. and Olympus Executive Fund, L.P. for Declaratory Order, Rulemaking or Other Relief.

2. Marine Terminal Agreements Exemption at 46 CFR 535.308.

3. Proof of Financial Responsibility for Windstar Sail Cruises Limited.

4. Investigative and Enforcement Matters.

5. Internal Administrative Practices and Personnel Matters.

Contact Person For More Information: Karen V. Gregory, Secretary, (202) 523-5725.

Karen V. Gregory,
Secretary.

[FR Doc. E9-11529 Filed 5-13-09; 4:15 pm]

BILLING CODE 6730-01-P